DEPARTMENT OF HOMELAND SECURITY

Federal Emergency Management Agency

[Docket ID FEMA-2025-0002; Internal Agency Docket No. FEMA-B-2502]

Proposed Flood Hazard Determinations; Correction

AGENCY: Federal Emergency Management Agency; Department of Homeland Security.

ACTION: Notice; correction.

SUMMARY: On February 24, 2025, FEMA published in the Federal Register a proposed flood hazard determination notice that contained an erroneous table. This notice provides corrections to that table to be used in lieu of the erroneous information. The table provided here represents the proposed flood hazard determinations and communities affected for Berrien County, Michigan (All Jurisdictions).

DATES: Comments are to be submitted on or before June 24, 2025.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at https://msc.fema.gov for comparison.

You may submit comments, identified by Docket No. FEMA-B-2502, to Rick Sacbibit, Chief, Engineering Services Branch, Risk Analysis, Planning & Information Directorate, FEMA, 400 C Street SW, Washington, DC 20472, (202) 646-7659, or (email) patrick.sacbibit@fema.dhs.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at https://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 90 FR 10510 in the February 24, 2025, issue of the Federal Register, FEMA published a table titled Berrien County, Michigan (All Jurisdictions). This table omitted pertinent information as to the communities affected by the proposed flood hazard determinations—the Village of Stevensville should have been included. In this document, FEMA is publishing a table containing the accurate information. The information provided below should be used in lieu of that previously published.

(Catalog of Federal Domestic Assistance No. 97.022, “Flood Insurance.”)

Kristin E. Fontenot,
Assistant Administrator, Risk Analysis, Planning & Information Directorate, Federal Emergency Management Agency, Department of Homeland Security.

Community | Community map repository address
Berrien County, Michigan (All Jurisdictions)
Project: 23-05-0011S Preliminary Date: August 30, 2024
Charter Township of Benton | Benton Township Office, 1725 Territorial Road, Benton Harbor, MI 49022.
Charter Township of Coloma | Coloma Charter Township Office, 4919 Paw Paw Lake Road, Coloma, MI 49038.
Charter Township of Lincoln | Lincoln Township Hall, 2055 West John Beers Road, Stevensville, MI 49127.
Charter Township of Niles | Niles Township Hall, 320 Bell Road, Niles, MI 49120.
Charter Township of Oronoko | Oronoko Township Hall, 4583 East Snow Road, Berrien Springs, MI 49103.
Charter Township of St. Joseph | Township Hall, 3000 Washington Avenue, St. Joseph, MI 49085.
Charter Township of Watervliet | Watervliet Township Hall, 4959 M-140, Watervliet, MI 49098.
City of Benton Harbor | City Hall, 200 East Wall Street, Benton Harbor, MI 49022.
City of Buchanan | Buchanan City Hall, 302 North Redbud Trail, Buchanan, MI 49107.
City of Coloma | Coloma City Hall, 119 North Paw Paw Street, Coloma, MI 49038.
City of Niles | Niles City Hall, 333 North Second Street, Suite 301, Niles, MI 49120.
City of St. Joseph | St. Joseph City Hall, 700 Broad Street, St. Joseph, MI 49085.
City of Watervliet | Watervliet City Hall, 158 West Pleasant Street, Watervliet, MI 49098.
Township of Berrien | Berrien Township Office, 8916 M-140, Berrien Center, MI 49102.
Township of Bertrand | Bertrand Community Hall, 3835 Buffalo Road, Buchanan, MI 49107.
Township of Buchanan | Buchanan Township Hall, 15235 Main Street, Buchanan, MI 49107.
Township of Hagar | Hagar Township Hall, 3900 Riverside Road, Riverside, MI 49084.
Township of Royalton | Royalton Township Hall, 980 Miners Road, St. Joseph, MI 49085.
Township of Sodus | Sodus Township Office, 4056 King Drive, Sodus, MI 49126.
Village of Shoreham | Village of Shoreham Village Hall, 2120 Brown School Road, St. Joseph, MI 49085.
Village of Stevensville | Stevensville Village Offices, 5768 St. Joseph Avenue, Stevensville, MI 49127.

[FR Doc. 2025-05122 Filed 3-25-25; 8:45 am]

BILLING CODE 9110-12-P